DEPARTMENT OF TRANSPORTATION

Surface Transportation Board

[STB Finance Docket No. 34400]

Sonoma-Marin Area Rail Transit District—Acquisition Exemption—Northwestern Pacific Railroad Authority

Sonoma-Marin Area Rail Transit District (SMART),¹ a noncarrier, has filed a verified notice of exemption under 49 CFR 1150.31 to acquire the real estate and rail facilities and trackage from Northwestern Pacific Railroad Authority (NWPRA) ² comprising a line of railroad that extends from Northwestern Pacific Railroad Company (NWP) milepost 68.2 at Healdsburg, CA, to Southern Pacific Transportation Company (SP) milepost 63.4 at Lombard Station, Napa County, CA, via Schellville (NWP milepost 40.6/SP milepost 72.59), a distance of approximately 66.85 miles. SMART indicates that it will take title subject to an easement for freight service, which was granted to North Coast Railroad Authority as part of NWPRA's acquisition in STB Finance Docket No. 32910, and to an operating agreement subsequently providing for service by Northwestern Pacific Railway Co., LLC (NWPY).³ According to SMART, the purpose of this acquisition is to place the line in the ownership of an agency that is legally authorized to operate passenger rail service. SMART states that it will not be providing freight rail service. Rather, CFNR Operating Company, Inc. (CFNR) ⁴ and NWPY will continue to be the carriers providing freight rail service over the line, and SMART will retain a residual common carrier obligation until such time as it petitions the Board for a change in status and the Board grants its petition. SMART certifies that its projected revenues as a result of this transaction will not exceed those that would qualify it as a Class III rail carrier.

¹ SMART is a special district created pursuant to California Public Utilities Code Section 105000 et seq. to acquire and operate passenger service over the line.

² NWPRA acquired these assets in Northwestern Pacific Railroad Authority—Acquisition Exemption—Former Northwestern Pacific Railroad Line from Southern Pacific Transportation Company and Golden Gate Bridge, Highway and Transportation District, STB Docket Finance Docket No. 32910 (STB served May 17, 1996).

³ NWPY acquired its authority pursuant to an operating agreement to lease and operate between Healdsburg and Schellville, CA. See Northwestern Pacific Railway Co., LLC—Lease and Operation Exemption—North Coast Railroad Authority, Northwestern Pacific Railroad Authority and Golden Gate Bridge, Highway and Transportation District, STB Finance Docket No. 33998 (STB served Feb. 6, 2001).

⁴ CFNR acquired authority to operate freight rail service between Lombard and Schellville, CA. See CFNR Operating Company, Inc.—Acquisition and Operation Exemption—Park Sierra Corp., STB Finance Docket No. 34199 (STB served May 23, 2002).

A memorandum of understanding between NWPRA and SMART was executed on June 13, 2003. SMART reported that the parties intend to consummate the transaction on or about February 19, 2004.

If the verified notice contains false or misleading information, the exemption is void ab initio. Petitions to revoke the exemption under 49 U.S.C. 10502(d) may be filed at any time. The filing of a petition to revoke will not automatically stay the transaction.

An original and 10 copies of all pleadings, referring to STB Finance Docket No. 34400, must be filed with the Surface Transportation Board, 1925 K Street, NW., Washington, DC 20423-0001. In addition, one copy of each pleading must be served on Sally McGough, Deputy County Counsel, Sonoma County Counsel's Office, 575 Administration Drive, Room 105-A, Santa Rosa, CA 95403.

Board decisions and notices are available on our Web site at http://www.stb.dot.gov.

Decided: March 2, 2004.
By the Board, David M. Konschnik, Director, Office of Proceedings.
Vernon A. Williams,
Secretary.

[FR Doc. 04-5120 Filed 3-9-04; 8:45 am]

BILLING CODE 4915-01-P